ENVIRONMENTAL PROTECTION AGENCY

[ER-FRL-6695-9]

Environmental Impacts Statements; Notice of Availability

Responsible Agency: Office of Federal Activities, General Information (202) 564-7167 or http://www.epa.gov/compliance/nepa/.

Weekly receipt of Environmental Impact Statements filed 02/04/2008 through 02/08/2008 pursuant to 40 CFR 1506.9.

EIS No. 20080044, Draft EIS, BIA, OR, Cascade Locks Resort and Casino Project, Application for the Fee-to-Trust Transfer of 25 Acres of Land within the City of Cascade Locks, Confederated Tribes of the Warn Springs Reservation of Oregon, Cascade Locks, Hood River County, OR, Comment Period Ends: 05/15/2008, Contact: Gerald Henrikson 503-231-6927.

EIS No. 20080045, Draft EIS, BIA, CA, North Fork Rancheria of Mono Indians Fee-to-Trust and Casino/Hotel Project, Proposed 305-Acres-Fee-to-Trust Land Acquisition in Unincorporated Madera County, CA, Comment Period Ends: 03/31/2008, Contact: John Rydzik 916-978-6042.

EIS No. 20080046, Final Supplement, WAP, CA, Sacramento Area Voltage Support Project, Selected Preferred Alternative B, Proposal to Build a Double-Circuit 230-kV Transmission Line, Placer, Sacramento and Sutter Counties, CA, Wait Period Ends: 03/17/2008, Contact: Catherine Cunningham 720-962-7260.

EIS No. 20080047, Draft EIS, USN, 00, Atlantic Fleet Active Sonar Training Program, To Provide Mid- and High-Frequency Active Sonar Technology and the Improved Ext ended Echo Ranging (IEER) System during Atlantic Fleet Training Exercises, Along the East Coast of United States (US) and in the Gulf of Mexico, Comment Period Ends: 03/31/2008, Contact: Karen Foskey 703-602-2859.

EIS No. 20080048, Draft EIS, BLM/DEQ, MT, Montana Tunnels Mine Project, Proposed M-Pit Mine Expansion to Existing Mine Pit to Access and Mine Additional Ore Resources, Jefferson County, MT, Comment Period Ends: 03/31/2008, Contact: David Williams 406-533-7655. Bureau Land Management and the Montana Department of Environmental (DEQ) are Co-Lead Agencies for the above project.

This document is available on the Internet at: http://www.deq.mt.gov.

EIS No. 20080049, Draft EIS, FRC, 00, Midcontinent Express Pipeline Project, (Docket Nos. CP08-6-000), Construction and Operation to Facilitate the Transport of 1,500, 000 dekatherms per day of Natural Gas from Production Fields in eastern TX, OK, and AR to Market Hub, located in various counties and parishes in OK, TX, LA, MS and AL , Comment Period Ends: 03/31/2008, Contact: Andy Black 1-866-208-3372.

EIS No. 20080050, Draft EIS, FRA, NJ, Portal Bridge Capacity Enhancement Project, To Replace the nearly 100-Year-Old Portal Bridge and Eliminate Capacity Constraints on the Northeast Corridor between Swift Interlocking and Psychics Transfer Station, Hackensack River, Hudson County, NJ, Comment Period Ends: 03/31/2008, Contact: David Valenstein 202-493-6368.

EIS No. 20080051, Final EIS, AFS, MT, Beaverhead-Deerlodge National Forest Draft Revised Land and Resource Management Plan, Implementation, Beaverhead, Butte-Silver Bow, Deerlodge, Granite, Jefferson, Madison Counties, MT, Wait Period Ends: 03/17/2008, Contact: Leaf Magnuson 406-683-3950.

EIS No. 20080052, Final EIS, FTA, FL, Tier 1 Programmatic—Jacksonville Rapid Transit System (RTS), Improvement to Transportation in Four Primary Transit Corridors Radiating from Downtown Jacksonville, Duval County, FL, Wait Period Ends: 03/17/2008, Contact: Tajsha LaShore 404-865-5606.

EIS No. 20080053, Draft EIS, FHW, DC, South Capitol Street Project, Replacement of the Fredrick Douglass Memorial Bridge, from Firth Sterling Avenue, SE. to Independence Avenue and the Suitland Parkway from Martin Luther King, Jr. Avenue, SE. to South Capitol Street, Washington, District of Columbia, Comment Period Ends: 03/31/2008, Contact: Michael Hicks 202-219-3513.

EIS No. 20080054, Draft EIS, DOE/DEQ, MT, MATL 230-kV Transmission Line Project, To Construct, Operate, Maintain, and Connect a 230-kV Electric Transmission Line, Issuance of Presidential Permit for Right-to-Way Grant, Cascade, Teton, Chouteau, Pondera, Toole and Glacier Counties, MT, Comment Period Ends: 03/31/2008, Contact: Ellen Russell 202-586-9624. Department of Energy and the Montana Department of Environmental Quality (DEQ) are Co-Lead Agencies for the above project.

EIS No. 20080055, Final EIS, AFS, 00, National Forest System Land Management Planning, Implementation, Proposed Land Management Planning Rule at 36 CFR Part 219 to Finish Rulemaking, Wait Period Ends: 03/17/2008, Contact: Dave Sire 202-205-1006.

EIS No. 20080056, Final EIS, AFS, AK, Tongass Land and Resource Management Plan, Plan Amendment, Implementation, Tongass National Forest, AK, Wait Period Ends: 03/17/2008, Contact: Lee Kramer 907-789-6246.

Amended Notices

EIS No. 20080025, Draft EIS, FTA, TX, Northwest Corridor Light Rail Transit Line (LRT) to Irving/Dallas/Fort Worth International Airport, Construction, Dallas County, TX, Comment Period Ends: 03/11/2008, Contact: A.J. Ossi 202-366-1613. Revision of FR Notice Published on 01/25/2008: Correction to Lead Agency from FAA to FTA.

EIS No. 20080040, Draft EIS, IBR, CA, Folsam Lake State Recreation Area & Folsam Powerhouse State Historic Park, General Plan/Resource Management Plan, Implementation, Placer County, CA, Comment Period Ends: 03/24/2008, Contact: Laura Cabollero 916-989-7172. Revision to FR Notice Published 02/08/2008: Correction to the County and State.

Dated: February 12, 2008.
Robert W. Hargrove,
Director, NEPA Compliance Division, Office of Federal Activities.

[FR Doc. E8-2951 Filed 2-14-08; 8:45 am]

BILLING CODE 6560-50-P